DEPARTMENT OF HOMELAND SECURITY

Federal Emergency Management Agency

[Docket ID FEMA-2014-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arkansas:
Benton (FEMA Docket No.: B-1408) | City of Bentonville (12-06-3754P) | The Honorable Bob McCaslin, Mayor, City of Bentonville, 117 West Central Avenue, Bentonville, AR 72712 | 305 Southwest A Street, Bentonville, AR 72712 | June 26, 2014 | 050012
Garland (FEMA Docket No.: B-1408) | City of Hot Springs (12-06-3592P) | The Honorable Ruth Carney, Mayor, City of Hot Springs, 133 Convention Boulevard, Hot Springs National Park, AR 71901 | Hot Springs City Hall Annex, 111 Opera Street, Hot Springs National Park, AR 71901 | June 26, 2014 | 050084
Maryland: Frederick (FEMA Docket No.: B-1405) | City of Frederick (14-03-0540P) | The Honorable Randy McClement, Mayor, City of Frederick, 101 North Court Street, Frederick, MD 21701 | Department of Engineering, 140 West Patrick Street, Frederick, MD 21701 | June 23, 2014 | 240030
Oklahoma: Oklahoma (FEMA Docket No.: B-1405) | City of Oklahoma City (13-06-3216P) | The Honorable Mick Cornett, Mayor, City of Oklahoma City, 200 North Walker Avenue, 3rd Floor, Oklahoma City, OK 73102 | 420 West Main Street, Suite 700, Oklahoma City, OK 73102 | June 9, 2014 | 405378
Pennsylvania: Bucks (FEMA Docket No.: B-1405) | Borough of New Hope (14-03-0111P) | Mr. John Burke, Manager, Borough of New Hope, 123 New Street, New Hope, PA 18938 | Borough Hall, 123 New Street, New Hope, PA 18938 | June 9, 2014 | 420195
Texas:
Bexar (FEMA Docket No.: B-1408) | City of San Antonio (14-06-0172P) | The Honorable Julian Castro, Mayor, City of San Antonio, P.O. Box 839966, San Antonio, TX 78283 | Department of Public Works, Storm Water Engineering, 1901 South Alamo Street, 2nd Floor, San Antonio, TX 78204 | June 23, 3014 | 480045
Bexar (FEMA Docket No.: B-1408) | City of San Antonio (14-06-0677P) | The Honorable Julian Castro, Mayor, City of San Antonio, P.O. Box 839966, San Antonio, TX 78283 | Department of Public Works, Storm Water Engineering, 1901 South Alamo Street, 2nd Floor, San Antonio, TX 78204 | June 23, 3014 | 480045
Harris (FEMA Docket No.: B-1408) | City of Houston (13-06-4399P) | The Honorable Annise D. Parker, Mayor, City of Houston, P.O. Box 1562, Houston, TX 77251 | Public Works and Engineering Department, 611 Walker Street, Houston, TX 77002 | June 26, 2014 | 480296
Harris (FEMA Docket No.: B-1408) | Unincorporated areas of Harris County (13-06-4399P) | The Honorable Ed M. Emmett, Harris County Judge, 1001 Preston Street, Suite 911, Houston, TX 77002 | Harris County, 10555 Northwest Freeway, Houston, TX 77092 | June 26, 2014 | 480287
Travis (FEMA Docket No.: B-1405) | Unincorporated areas of Travis County (13-06-3649P) | The Honorable Samuel T. Biscoe, Travis County Judge, P.O. Box 1748, Austin, TX 78767 | Travis County Administration Building, Transportation and Natural Resources Department, 700 Lavaca Street, 5th Floor, Austin, TX 78701 | June 12, 2014 | 481026
Virginia:
Fairfax (FEMA Docket No.: B-1405) | Unincorporated areas of Fairfax County (13-03-2380P) | Mr. Edward L. Long, Jr., Fairfax County Executive, 12000 Government Center Parkway, Fairfax, VA 22035 | Fairfax County, Stormwater Planning Division, 12000 Government Center Parkway, Suite 449, Fairfax, VA 22035 | June 16, 2014 | 515525
Spotsylvania (FEMA Docket No.: B-1408) | Unincorporated areas of Spotsylvania County (13-03-1116P) | Mr. C. Douglas Barnes, Spotsylvania County Administrator, 9104 Courthouse Road, Spotsylvania, VA 22553 | Spotsylvania County, Environmental Engineering Office, 9019 Old Battlefield Boulevard, Suite 300, Spotsylvania, VA 22553 | June 5, 2014 | 510308
West Virginia:
Cabell (FEMA Docket No.: B-1408) | Unincorporated areas of Cabell County (13-03-0925P) | The Honorable Nancy Cartmill, President, Cabell County Commission, 750 5th Avenue, Suite 300, Huntington, WV 25701 | Cabell County Office of Grants, Planning and Permits, 750 5th Avenue, Suite 314, Huntington, WV 25701 | June 26, 2014 | 540016
Cabell (FEMA Docket No.: B-1408) | Village of Barboursville (13-03-0925P) | The Honorable Paul L. Turman, Sr., Mayor, Village of Barboursville, P.O. Box 266, Barboursville, WV 25504 | Village Hall, 721 Central Avenue, Barboursville, WV 25504 | June 26, 2014 | 540017

(Catalog of Federal Domestic Assistance No. 97.022, “Flood Insurance.”)

Dated: July 11, 2014.
Roy E. Wright,
Deputy Associate Administrator for Mitigation, Department of Homeland Security, Federal Emergency Management Agency.

[FR Doc. 2014-18107 Filed 7-31-14; 8:45 am]

BILLING CODE 9110-12-P